DEPARTMENT OF THE INTERIOR

National Park Service

Jamestown Project Development Concept Plan, Final Environmental Impact Statement, Colonial National Historical Park, Jamestown Unit, Jamestown, Virginia, and Jamestown National Historic Site, Jamestown, Virginia

AGENCY: National Park Service, Department of the Interior.

ACTION: Notice of availability of a record of decision on the final environmental impact statement for the Jamestown Project Development Concept Plan, Colonial National Historical Park, Jamestown Unit, and Jamestown National Historic Site.

SUMMARY: Pursuant to § 102(2)(C) of the National Environmental Policy Act of 1969 Pub. L. 91-190, 83 Stat. 852, 853, codified as amended at 42 U.S.C. 4332(2)(C), the National Park Service announces the availability of the Record of Decision for the Jamestown Project Development Concept Plan, Environmental Impact Statement, Colonial National Historical Park, Jamestown Unit, Jamestown, Virginia, and Jamestown National Historic Site, Jamestown, Virginia. ON May 13, 2003, the Director, Northeast Region, approved the Record of Decision for the project. As soon as practicable, the National Park Service will begin to implement the Preferred Alternative contained in the Final Environmental Impact Statement issued on April 2, 2003. The Preferred Alternative includes strategies for an updated interpretive experience; the improvement or repalcement of facilities (including the current Visitor Center, collections storage, and parking); the addition of comfort/hospitality services and new interpretive venues; and enhanced and multimodal transportation options (including water taxis/tours/ hike/bike trails, and shuttle services). This course of action and 4 alternatives were analyzed in the Draft and Final Environmental Impact Statements. The full range of foreseeable environmental consequences was assessed, and appropriate mitigating measures were identified.

The Record of Decision includes a statement of the decision made, a description of the project background, a detailed description of the alternative to be implemented, the basis for the decision, synopses of other alternatives considered, an overview of public and agency involvement in the decision-making process, findings on impairment of park resources and values, a description of the environmentally preferred alternative, and a listing of measures to minimize and/or mitigate environmental harm. It also includes the Programmatic Agreement between and the NPS, the Advisory Council on Historic Preservation, and the Virginia State Historic Preservation Office for Implementation of the Jamestown Project Development Concept Plan; the Statement of Findings on Floodplains and Wetlands; and the U.S. Fish and Wildlife Service Biological Opinion.

FOR FURTHER INFORMATION CONTACT: Mike Litterst, Information Officer, Colonial National Historical Park, (757) 898-2409, Mike_Litterst@nps.gov.

SUPPLEMENTARY INFORMATION: Copies of the Record of Decision may be obtained from the contact listed above or online at http://www.nps.gov/colo.

Dated: May 13, 2003.
Marie Rust,
Regional Director, Northeast Region, National Park Service.

[FR Doc. 03-15306 Filed 6-17-03; 8:45 am]

BILLING CODE 4310-78-M